DEPARTMENT OF ENERGY

Federal Energy Regulatory Commission

[Docket No. RP01-33-000]

Questar Pipeline Company; Notice of Tariff Filing

October 12, 2000.

Take notice that on October 10, 2000, Questar Pipeline Company (Questar) tendered for filing to become part of its FERC Gas Tariff, First Revised Volume No. 1, Fifth Revised Sheet No. 79, Second Revised Sheet No. 80 and Fourth Revised Sheet No. 80A, to be effective November 1, 2000.

Questar states that the purpose of this filing is to comply with Order No. 587-L issued June 30, 2000, in Docket No. RM96-1-014, which established November 1, 2000, as the implementation date for interstate pipeline companies to include, in their FERC Gas Tariff, a provision to permit shippers to net and trade imbalances.

Questar states that a copy of this filing has been served upon its customers, the Public Service Commission of Utah and the Public Service Commission of Wyoming.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-26689 Filed 10-17-00; 8:45 am]

BILLING CODE 6717-01-M